DEPARTMENT OF HEALTH AND HUMAN SERVICES

Health Resources and Services Administration

Agency Information Collection Activities: Submission to the Office of Management and Budget for Review and Approval; Public Comment Request; The Maternal, Infant, and Early Childhood Home Visiting Program Performance Measurement Information System

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than August 29, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Maternal, Infant, and Early Childhood Home Visiting Program Performance Measurement Information System, OMB No. 0906-0017—Revision.

Abstract: This request is for continued approval of the Maternal, Infant, and Early Childhood Home Visiting (MIECHV) Program Performance Measurement Information System. The MIECHV Program is administered by the Maternal and Child Health Bureau within HRSA in partnership with the Administration for Children and Families, and provides support to all 56 states and jurisdictions, as well as tribes and tribal organizations. Through a needs assessment, states, jurisdictions, tribes, and tribal organizations identify target populations and select the home visiting service delivery model(s) that best meet their needs. There is no proposed change to the previously approved information collection instruments. Over the next 3 years, as part of efforts to implement new statutory provisions enacted as part of the reauthorization of the MIECHV program, HRSA intends to engage with MIECHV awardees, home visiting model developers, and federal partners to identify opportunities to reduce administrative burden related to performance reporting, to enhance performance measures to measure disparities, and to align performance measures with other programs administered by HRSA's Maternal and Child Health Bureau.

A 60-day notice published in the Federal Register on April 3, 2024, 89 FR 23028-29. HRSA received one comment from a local MIECHV-funded program administrator. The comment discussed obtaining additional qualitative information for program benchmark data, improving response categories for race and ethnicity, and changing breastfeeding performance measure. HRSA has considered this comment; however, per congressional direction, HRSA's current primary focus is minimizing burden for local MIECHV-funded programs. The changes sought by the comment would impose additional burden. As a result, no change to the proposed information collection tools is proposed at this time. As previously stated, HRSA intends to re-assess the current performance measurement system over the next 3 years, including considering and addressing the issues raised by the commenter.

Need and Proposed Use of the Information: HRSA uses performance information to demonstrate program accountability and continuously monitor and provide oversight to MIECHV program awardees. The information is also used to provide quality improvement guidance and technical assistance to awardees and help inform the development of early childhood systems at the national, state, and local level. HRSA is seeking to continue to collect information on demographic, service utilization, and select clinical indicators for participants enrolled in home visiting services and a set of standardized performance and outcome indicators that correspond with the statutorily identified benchmark areas. This information will be used to demonstrate awardees' compliance with statutory and programmatic requirements. It will also be used to monitor and provide continued oversight for awardee performance and to target technical assistance resources to awardees.

Likely Respondents: MIECHV Program awardees that are states, jurisdictions, and, where applicable, nonprofit organizations providing home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Form 1: Demographic, Service Utilization, and Select Clinical Indicators | 56 | 1 | 56 | 560 | 31,360
Form 2: Performance Indicators and Systems Outcome Measures | 56 | 1 | 56 | 221 | 12,376
Total | 56 |  | 56 |  | 43,736

Maria G. Button,
Director, Executive Secretariat.

[FR Doc. 2024-16719 Filed 7-29-24; 8:45 am]

BILLING CODE 4165-15-P